DEPARTMENT OF THE INTERIOR

Fish and Wildlife Service

[FWS-R1-ES-2010-N287; 10120-1113-0000-F5]

Endangered Plants; Receipt of Application for Enhancement of Survival Permit

AGENCY: Fish and Wildlife Service, Interior.

ACTION: Notice of availability of a permit application; request for comments.

SUMMARY: In accordance with the requirements of the Endangered Species Act of 1973, as amended (Act), we, the U.S. Fish and Wildlife Service (Service), invite the public to comment on an application for a permit to conduct enhancement of survival activities with an endangered species.

DATES: To ensure consideration, please send your written comments by March 31, 2011.

ADDRESSES: Program Manager, Endangered Species, Ecological Services, U.S. Fish and Wildlife Service, 911 NE. 11th Avenue, Portland, OR 97232-4181.

FOR FURTHER INFORMATION CONTACT: Linda Belluomini, Fish and Wildlife Biologist, at the above address or by telephone (503-231-6131) or fax (503-231-6243).

SUPPLEMENTARY INFORMATION: The following applicant has applied for a recovery permit to conduct certain activities with endangered species under section 10(a)(1)(A) of the Act (16 U.S.C. 1531 et seq.). We are soliciting review of and comments on this application by local, State, and Federal agencies and the public.

Permit No. TE-30445A

Applicant: Benjamin Blonder, Tucson, Arizona.

The applicant requests a permit to remove/reduce to possession Argyroxiphium kauense (Mauna Loa silversword) at Hawaii Volcanoes National Park, Hawaii Island, Hawaii, in conjunction with scientific studies for the purpose of enhancing its survival.

Public Comments

We are soliciting public review and comment on this recovery permit application. Submit written comments to the Program Manager, Endangered Species (see address above). Before including your address, phone number, e-mail address, or other personal identifying information in your comment, you should be aware that your entire comment—including your personal identifying information—may be made publicly available at any time. While you can ask us in your comment to withhold your personal identifying information from public review, we cannot guarantee that we will be able to do so.

Please refer to the permit number for the application when submitting comments. All comments and materials we receive in response to this request will be available for public inspection, by appointment, during normal business hours at the above address.

Dated: January 11, 2011.
Richard R. Hannan,
Regional Director, Region 1, U.S. Fish and Wildlife Service.

[FR Doc. 2011-4521 Filed 2-28-11; 8:45 am]

BILLING CODE 4310-55-P